DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2010 Census Coverage Measurement Final Housing Unit Followup Operation.

Form Number(s): D-1340, D-1340(PR), D-1325, D-1325(PR).

OMB Control Number: None.

Type of Request: New collection.

Burden Hours: 3,034.

Number of Respondents: 57,969.

Average Hours Per Response: 3 minutes.

Needs and Uses: The U.S. Census Bureau requests authorization from the Office of Management and Budget to conduct the Census Coverage Measurement (CCM) Final Housing Unit Followup (FHUFU) and Final Housing Unit Followup Quality Control (FHUFU QC) Operations as part of the 2010 Census. The CCM program will provide estimates of net coverage error and components of census coverage (including omissions and erroneous enumerations) for housing units and persons in housing units. The data collection and matching methodologies for previous coverage measurement programs were designed only to measure net coverage error, the difference between the estimate of the true population count and the actual census count.

The 2010 CCM will be composed of two samples selected to measure census coverage of housing units and the household population: the population sample (P sample) and the enumeration sample (E sample). The primary sampling unit is a block cluster, which consists of one or more contiguous census blocks. The P sample is a sample of housing units and persons obtained independently from the census for a sample of block clusters. The E sample is a sample of census housing units and enumerations in the same block of clusters as the P sample.

The paper FHUFU form will be used to collect additional address information for addresses selected for followup. The CCM FHUFU operation attempts to collect additional information that might allow a resolution of match/nonmatched codes for addresses in the CCM address list and the census address list, including whether occupied or vacant on Census Day (April 1, 2010) and also to resolve potential duplicates of the two lists.

A quality control operation, FHUFU QC, will also be conducted on 55 percent of the FHUFU cases. The purpose of the operation is to ensure the work performed is of acceptable quality.

In addition to the CCM FHUFU and FHUFU QC Operations, the Evaluation of AFAQ will be conducted, as part of the 2010 Census Program for Evaluations and Experiments (CPEX). The purpose of this evaluation is to evaluate the accuracy of the Master Address File (MAF) after the completion of all Census operations, including the 2010 Address Canvassing operation. While the majority of the Evaluation of AFAQ will rely heavily on the results of CCM, two additional small field operations are required.

The first field operation scheduled for the Evaluation of AFAQ will provide information on the accuracy of the delete and duplicate actions applied to living quarters in the 2010 Address Canvassing operation. Clerical matchers will attempt to match the living quarters with a delete or duplicate action to the living quarters found in the CCM operation and unresolved cases will be sent to the field for followup. Enumerators will only follow up on cases where the status of the living quarters is in question, to determine the true status.

The second field operation of the Evaluation of AFAQ will provide information on the accuracy of the geocodes in the 2010 Census. Clerical matchers will attempt to identify addresses coded by CCM as “missing” from the census, by searching outside the CCM sample block cluster. Enumerators will follow up on any unresolved cases, and also any cases where census units were listed in the wrong block within a CCM sample cluster.

Affected Public: Individuals or households.

Frequency: One time.

Respondent's Obligation: The CCM operation is mandatory. The AFAQ evaluation is voluntary.

Legal Authority: Title 13 U.S.C., Sections 141 and 193.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: July 27, 2010.
Glenna Mickelson,
Management Analyst, Office of the Chief Information Officer.

[FR Doc. 2010-18734 Filed 7-29-10; 8:45 am]

BILLING CODE 3510-07-P